DEPARTMENT OF HOMELAND SECURITY

Coast Guard

33 CFR Part 100

[CGD 07-06-020]

RIN 1625-AA08

Special Local Regulations: St. Petersburg Grand Prix Air Show; St. Petersburg, FL

AGENCY: Coast Guard, DHS.

ACTION: Temporary final rule.

SUMMARY: The Coast Guard is establishing a temporary special local regulation for the St. Petersburg Grand Prix Air Show, St. Petersburg, Florida (Air Show). The Air Show's aeronautic displays will be held daily from 9 a.m. until 4 p.m. on March 31, 2006 through April 3, 2006. This regulation is needed to restrict persons and vessels from entering, anchoring, mooring, or transiting the regulated area. This regulation is necessary to ensure the safety of Air Show participants, spectators, and mariners in the area.

DATES: This rule is effective from March 31, 2006 through April 3, 2006.

ADDRESSES: Documents indicated in this preamble as being available in the docket are part of docket [CGD 07-06-020] and are available for inspection or copying at Coast Guard Sector St. Petersburg, 155 Columbia Drive, Tampa, Florida 33606-3598, between 7:30 a.m. and 3:30 p.m., Monday through Friday, except Federal holidays.

FOR FURTHER INFORMATION CONTACT: BM1 Charles Voss at Coast Guard Sector St. Petersburg (813) 228-2191 Ext 8307.

SUPPLEMENTARY INFORMATION:

Regulatory Information

We did not publish a notice of proposed rulemaking (NPRM) for this regulation. Under 5 U.S.C. 553(b)(B), the Coast Guard finds that good cause exists for not publishing an NPRM. The necessary information to determine whether the Air Show poses a threat to persons and vessels was not provided with sufficient time to publish an NPRM. Publishing an NPRM and delaying its effective date would be contrary to the public interest since immediate action is needed to minimize potential danger to the public during the Air Show. The Coast Guard will issue a broadcast notice to mariners to advise mariners of the restriction and on scene Coast Guard and local law enforcement assets will also provide notice to mariners.

For the same reasons, Under 5 U.S.C. 553(d)(3), the Coast Guard finds that good cause exists for making this rule effective less than 30 days after publication in the Federal Register. The Coast Guard will issue a broadcast notice to mariners to advise them of the restriction.

Background and Purpose

The City of St. Petersburg and Honda Motor Company are sponsoring the St. Petersburg Grand Prix, an auto race in the downtown area of St. Petersburg, Florida on March 31, 2006 through April 3, 2006. An Air Show is also included in the race festivities and consists of aerial demonstrations over the near shore waters of St. Petersburg, Florida. The demonstrations will total approximately seventy-one (71) minutes of flight time per day. Aerial demonstrations will include military aircraft, parachute jumpers, and smaller aircraft flying in formation at approximately fifty (50) feet above the water.

Discussion of Rule

The Federal Aviation Administration (FAA) will create a sterile “no-fly” zone (air box) above the restricted waters encompassed by this regulation. Following creation of the air box, the FAA requested all vessels be prohibited from entering the waters underneath the air box (regulated area) to ensure spectator and Air Show participant safety.

All vessels and persons are prohibited from entering, anchoring, mooring, or transiting the regulated area during the aerial demonstrations. This regulation is intended to provide for the safety of life on the navigable waters of the United States for Air Show participants, spectators and mariners transiting in the vicinity of the regulated area.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Homeland Security (DHS). The Coast Guard expects the impact of this proposal to be so minimal that a full Regulatory Evaluation under the regulatory policies and procedures of DHS is unnecessary because the regulated area will only be in effect for a limited period of time.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule may affect the following entities, some of which may be small entities: the owners or operators of vessels intending to transit or anchor in the vicinity of the Albert Whitted airport in St. Petersburg, Florida from 9 a.m. to 4 p.m. on March 31, 2006 through April 3, 2006. This special local regulation will not have a significant economic impact on a substantial number of small entities as this rule will be in effect for only a short period of time in an area where vessel traffic is minimal. Additionally, enforcement of this regulation will only occur from 9 a.m. to 4 p.m. each day the regulation in effect and the Captain of the Port of St. Petersburg or his designated representative may allow certain vessels to transit the regulated area if requested.

Assistance for Small Entities

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Commandant Instruction M16475.lD, which guides the Coast Guard in complying with the National Environmental Policy Act of 1969 (NEPA)(42 U.S.C. 4321-4370f), and have concluded that there are no factors in this case that would limit the use of a categorical exclusion under section 2.B.2 of the Instruction. Therefore, this rule is categorically excluded, under figure 2-1, paragraph (34)(h), of the Instruction, from further environmental documentation. Under figure 2-1, paragraph (34)(h), of the Instruction, an “Environmental Analysis Check List” and a “Categorical Exclusion Determination” are not required for this rule.

List of Subjects in 33 CFR Part 100

Marine safety, Navigation (water), Reporting and recordkeeping requirements, waterways.

For the reasons discussed in the preamble, the Coast Guard amends 33 CFR part 100 as follows:

PART 100—MARINE EVENTS & REGATTAS

1. The authority citation for part 100 continues to read as follows:

Authority: 33 U.S.C. 1233; Department of Homeland Security Delegation No. 0170.1.

2. A new temporary section 100.35T-07-020 is added to read as follows:

§ 100.35T-07-020 St. Petersburg Grand Prix Air Show; St. Petersburg, FL.

(a) Regulated Area. The Coast Guard is establishing a temporary special local regulation on the waters of St., Petersburg, Florida in the vicinity of the Albert Whitted Airport encompassing all waters located within an imaginary line connecting the following points (NAD 83):

1: 27°46′16″ N., 82°37′31″ W.;

2: 27°45′13″ N., 82°37′31″ W.;

3: 27°45′13″ N., 82°36′57″ W.;

4: 27°46′16″ N., 82°36′57″ W.

(b) Definitions. The following definitions apply to this section:

Designated representative means Coast Guard Patrol Commanders including Coast Guard coxswains, petty officers and other officers operating Coast Guard vessels, and federal, state, and local officers designated by or assisting the Captain of the Port (COTP), Coast Guard Sector St. Petersburg, in the enforcement of this special local regulation.

(c) Special local Regulations. Non-participant vessels and persons are prohibited from entering, anchoring, mooring, or transiting the Regulated Area, unless authorized by the Captain of the Port St. Petersburg, or his designated representative.

(d) Enforcement period. This regulation will be enforced from 9 a.m. until 4 p.m. on March 31, 2006, April 1, 2006, April 2, 2006 and April 3, 2006.

(e) Dates. This regulation is effective from March 31, 2006 until April 3, 2006, however enforcement will occur as described in paragraph (d) above.

Dated: March 7, 2006.
D.B. Peterman,
RADM, U.S. Coast Guard, Commander, Seventh Coast Guard District.

[FR Doc. 06-2910 Filed 3-24-06; 8:45 am]

BILLING CODE 4910-15-P